NATIONAL TRANSPORTATION SAFETY BOARD

Information Collection Request; Submission for OMB Review; Comment Request

The National Transportation Safety Board intends to submit the following (see below) public information collection request (ICR) to the Office of Management and Budget (OMB) for review and clearance under the paperwork reduction Act of 1995 (Pub. L. 104-13, 44 U.S.C. Chapter 35). OMB approval is being requested concurrently with this submission. A copy of this individual ICR, with applicable supporting documentation, may be obtained by calling the National Transportation Safety Board Records Management Officer, Ms. Melba Moye, at (202) 314-6551.

Written comments and questions about the ICR should be sent within 30 days of publication of this notice to Alex Hunt, OMB Desk Officer, FAX number (202) 395-6974, or ahunt@omb.eop.gov.

Agency: National Transportation Safety Board.

Title: Pilot/Operator Aircraft Accident/Incident Report.

OMB Number: 3147-0001.

Frequency: On Occasion.

Affected Public: Individuals, Businesses (for and not for profit), Governments (State, Local, and Tribal).

Number of Respondents: 2100.

Estimated time per respondent: 60 minutes.

Total Burden Hours: 2100.

Description: The National Transportation Safety Board is required to investigate aviation accidents and certain incidents as stated in the 49 Code of Federal Regulations Part 830. Entities having a reportable accident/incident are required to report the details pertaining to the event to the Safety Board. To ensure pertinent data is collected, the Board uses a standard form for reporting the accident/incident.

The National Transportation Safety Board is seeking clearance to use the Pilot/Operator Aircraft Accident/Incident Report to help determine the facts, conditions, and circumstances of aviation accidents/incidents in order to facilitate strategies and maintain statistics on aviation safety.

Dated: March 31, 2006.
Candi Bing,
Acting Federal Register Liaison Officer.

[FR Doc. 06-3345 Filed 4-6-06; 8:45 am]

BILLING CODE 7533-01-M